DEPARTMENT OF DEFENSE

Office of the Secretary

[Transmittal No. 21-22]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-22 with attached Policy Justification and Sensitivity of Technology.

Dated: October 13, 2021.
Aaron T. Siegel,
Alternate OSD Federal Register Liaison Officer, Department of Defense.

Transmittal No. 21-22

Notice of Proposed Issuance of Letter of Offer Pursuant to Section 36(b)(1) of the Arms Export Control Act, as Amended

(i) Prospective Purchaser: Government of North Macedonia

(ii) Total Estimated Value:

Major Defense Equipment* | $160 million
Other | $ 50 million
TOTAL | $210 million

Funding Source: National Funds and Foreign Military Financing (FMF)

(iii) Description and Quantity or Quantities of Articles or Services under Consideration for Purchase:

Major Defense Equipment (MDE):

Fifty-four (54) Stryker Vehicles, to include M1126 Infantry Carrier Vehicles (ICV), M1130 Command Vehicles (CV), and M1129 Mortar Carrier Vehicles (MCV)

Non-MDE: Also included are M2A1 .50 cal machine guns; M6 Smoke Grenade launchers and associated spares; Harris radios; Common Remote Operated Weapons Station (CROWS); Defense Advanced GPS Receiver; AN/VAS-5 Driver's Vision Enhancer; spare parts and components; special tools and test equipment; publications and technical manuals; training; field service representatives; U.S. Government and contractor engineering, technical, and logistical support services, and other related elements of program and logistical support.

(iv) Military Department: Army (MK-B-UCE).

(v) Prior Related Cases, if any: None.

(vi) Sales Commission, Fee, etc., Paid, Offered, or Agreed to be Paid: None.

(vii) Sensitivity of Technology Contained in the Defense Article or Defense Services Proposed to be Sold: See Attached Annex.

(viii) Date Report Delivered to Congress: March 16, 2021.

* As defined in Section 47(6) of the Arms Export Control Act.

Policy Justification

North Macedonia—Stryker Vehicles

The Government of North Macedonia has requested the possible sale of fifty-four (54) Stryker Vehicles, to include M1126 Infantry Carrier Vehicles (ICV), M1130 Command Vehicles (CV), and M1129 Mortar Carrier Vehicles (MCV). Also included are Also included are M2A1 .50 cal machine guns; M6 Smoke Grenade launchers and associated spares; Harris radios; Common Remote Operated Weapons Station (CROWS); Defense Advanced GPS Receiver; AN/VAS-5 Driver's Vision Enhancer; spare parts and components; special tools and test equipment; publications and technical manuals; training; field service representatives; U.S. Government and contractor engineering, technical, and logistical support services, and other related elements of program and logistical support. The estimated cost is $210 million.

This proposed sale will support the foreign policy and national security of the United States by improving the security of a NATO Ally which is an important force for political and economic stability in Europe.

The proposed sale of this equipment and support will improve North Macedonia's capability to meet current and future threats by increasing operational capabilities, force availability, and promote military cooperation.

The proposed sale of this equipment will not alter the basic military balance in the region.

The principal contractor will be General Dynamics Land Systems (GDLS), Sterling Heights, MI; vehicles will be produced at GDLS-Canada in London, Ontario. There are no known offset agreements proposed in connection with this potential sale.

Implementation of this proposed sale will require one (1) Stryker contractor representative for twelve (12) months, two (2) CROWS contractor representatives for two (2) months, and four (4) contractor representatives for two (2) months to travel to North Macedonia to conduct the Operator and Maintenance OCONUS.

There will be no adverse impact on U.S. defense readiness as a result of this proposed sale.

Transmittal No. 21-22

Notice of Proposed Issuance of Letter of Offer Pursuant to Section 36(b)(1) of the Arms Export Control Act

Annex

Item No. vii

(vii) Sensitivity of Technology:

1. The Stryker Family of Vehicles (FoV) are all derived from the Flat Bottom Infantry Carrier Vehicle (ICV). The ICV supplies the common suspension, drive line, major C4 components, and the hull to the FoV. The FoV are powered by a 350 horsepower C7 Caterpillar Diesel engine and runs on eight wheels that feature run flat capability and a central tire inflation system (CTIS). The FoV contain a vehicle height management system to aid in transportability. The FoV are supported by a communications suite that integrates the SINCGARS radio family and Global Positioning System (GPS) and their commercially exportable equivalents, and have Mission Equipment Packages that add to the ICV common capabilities. The Stryker is deployable by C-130 aircraft and combat capable upon arrival. The Stryker is capable of self-deployment by highway and self-recovery. It has a low noise level that reduces crew fatigue and enhances survivability. It moves about the battlefield quickly and is optimized for close, complex, or urban terrain. The Stryker program leverages non-developmental items with common subsystems and components to quickly acquire and filed these systems.

2. The AN/VAS-5 Driver's Vision Enhancer (DVE) is compact thermal camera providing armored vehicle drivers with day or night time visual awareness in clear or reduced vision (fog, smoke, dust) situations. The system provides the driver a 180-degree viewing angle using a high resolution infrared sensor and image stabilization to reduce the effect of shock and vibration. The viewer and monitor are ruggedized for operation in tactical environments.

3. The Common Remote Operated Weapon Station (CROWS) is an externally mounted weapon mounting and control system that allows the gunner to remain inside the vehicle protected armor while firing a variety of crew served weapons. The CROWS provides remote day and night sighting and ballistic control capacity, providing first-burst engagement of targets at maximum effective weapon range while on the move.

4. The Defense Advanced GPS Receiver (DAGR) is a lightweight (less than two pounds), hand-held or host platform-mounted receiver that may include a dual frequency (L1/L2), Selective Availability Anti-Spoofing Module (SAASM) based, Precise Positioning Service (PPS) device that receives and decodes the L1 and L2 signals-in-space which are transmitted by the NAVSTAR GPS satellite constellation. The DAGR provides real-time positioning, velocity (ground speed), navigation, and timing (PVNT) information, in stand-alone (dismounted) and mounted (ground facilities, sea, air, and land vehicles) configurations. The DAGR can support missions involving land-based war-fighting and non-war fighting operations. The DAGR can also be used as a secondary or supplemental aid to aviation-based missions which involve operations in low-dynamic aircraft, and as an aid to navigation in water-borne operations.

5. The M95, Mortar fire Control System (MFCS) is consist of multiple Line Replaceable Unit (LRUs) that provides 120mm mortar weapon's Azimuth and Elevation, which allows the user to aim the mortar without having to dismount the vehicle. The MFCS provides digital communication with fire support network, improves weapon accuracy, and reduces employment time.

6. The highest level of classification of defense articles, components, and services included in this potential sale is SECRET.

7. If a technologically advanced adversary were to obtain knowledge of the specific hardware and software elements, the information could be used to develop countermeasures that might reduce weapon system effectiveness or be used in the development of a system with similar or advanced capabilities.

8. A determination has been made that North Macedonia can provide the same degree of protection for the sensitive technology being released as the U.S. Government. This sale is necessary in furtherance of the U.S. foreign policy and national security objectives outlined in the Policy Justification.

9. All defense articles and services listed in this transmittal have been authorized for release and export to the Government of North Macedonia.

[FR Doc. 2021-22670 Filed 10-15-21; 8:45 am]

BILLING CODE 5001-06-P